FEDERAL COMMUNICATIONS COMMISSION

Notice of Public Information Collection(s) Being Reviewed by the Federal Communications Commission for Extension Under Delegated Authority, Comments Requested

June 11, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments before August 19, 2002. If you anticipate that you will be submitting comments, but find it difficult to do so within the period of time allowed by this notice, you should advise the contact listed below as soon as possible.

ADDRESSES: Direct all comments to Judith Boley Herman, Federal Communications Commission, 445 12th Street, SW, Room 1-C804, Washington, DC 20554 or via the internet to jboley@fcc.gov.

FOR FURTHER INFORMATION CONTACT: For additional information or copies of the information collections contact Judith Boley Herman at 202-418-0214 or via the internet at jboley@fcc.gov.

SUPPLEMENTARY INFORMATION: OMB Control No.: 3060-0989.

Title: Procedures for Applicants Requiring Section 214 Authorization for Domestic Interstate Transmission lines Acquired Through Corporate Control, 47 CFR Sections 63.01, 63.03, and 63.04.

Form No.: N/A.

Type of Review: Extension of a currently approved collection.

Respondents: Business or other for profit.

Number of Respondents: 35.

Estimated Time Per Response: 47.29 hours.

Total Annual Burden: 1,655 hours.

Annual Reporting and Recordkeeping Cost Burden: $20,000.

Frequency of Response: On occasion reporting requirement.

Needs and Uses: The Commission sought and received emergency OMB approval for this information collection on June 4, 2002. The Commission is resubmitting this collection to obtain the full-three year approval. The Report and Order that was previously adopted, provides presumptive streamlining categories, allows for joint applications for international and domestic transfers of control, clarifies confusion about content of applications, provides timelines for streamlined transaction review, provides a pro forma transaction process, allows asset acquisition to be treated as transfers of control and deletes obsolete sections of the Commission's rules. The information will be used to ensure that applicants comply with the requirements of 47 CFR Section 214.

OMB Control No.: 3060-0423.

Title: Section 73.3588, Dismissal of Petitions to Deny or Withdrawal of Informal Objections.

Form No.: N/A.

Type of Review: Extension of a currently approved collection.

Respondents: Business or other for profit.

Number of Respondents: 50 petitioners.

Estimated Time Per Response: 20 minutes (.33 hours)—8 hours (20 minutes consultation; 8 hours contracted attorney).

Total Annual Burden: 16 hours.

Annual Reporting and Recordkeeping Cost Burden: $42,500.

Frequency of Response: On occasion reporting requirement, third party disclosure requirement.

Needs and Uses: Section 73.3588 requires a petitioner to obtain approval from the FCC to dismiss or withdraw its petition to deny when it is filed against a renewal application and applications for new construction permits, modifications, transfers and assignments. This request for approval must contain a copy of any written agreement, an affidavit stating that the petitioner has not received any consideration in excess of legitimate and prudent expenses in exchange for dismissing/withdrawing its petition and an itemization of the expenses for which it is seeking reimbursement. Each remaining party to any written or oral agreement must submit an affidavit within five days of the petitioner's request for approval stating that it has paid no consideration to the petitioner in excess of the petitioner's legitimate and prudent expenses. The data is used by FCC staff to ensure that a petition to deny or informal objection was filed under appropriate circumstances and not to extract payments in excess of legitimate and prudent expenses.

OMB Control No.: 3060-0452.

Title: Section 73.3589, Threats to file Petitions to Deny or Informal Objections.

Form No.: N/A.

Type of Review: Extension of a currently approved collection.

Respondents: Business or other for profit.

Number of Respondents: 5 AM/FM/TV stations.

Estimated Time Per Response: 20 minutes (.33 hours)—1 hour (20 minutes consultation time; 1 hour contracted attorney).

Total Annual Burden: 5 hours.

Annual Reporting and Recordkeeping Cost Burden: $1,000.

Frequency of Response: On occasion reporting requirement.

Needs and Uses: Section 73.3589 requires an applicant or license to file with the FCC a copy of any written agreement related to the dismissal or withdrawal of a threat to file a petition to deny or informal objection and an affidavit certifying that neither the would-be petitioner nor any person or organization related to the would-be petitioner has not or will not receive any consideration in excess of legitimate and prudent expenses incurred in threatening to file. The data is used by FCC staff to ensure that a threat to file a petition to deny or informal objection was made under appropriate circumstances and not to extract payment in excess of legitimate and prudent expenses.

Federal Communications Commission.
Marlene H. Dortch,
Secretary.

[FR Doc. 02-15423 Filed 6-18-02; 8:45 am]

BILLING CODE 6712-01-P